DEPARTMENT OF HEALTH AND HUMAN SERVICES

Health Resources and Services Administration

Agency Information Collection Activities: Proposed Collection: Public Comment Request; Information Collection Request Title: Data Collection Tool for State Offices of Rural Health Grant Program, OMB No. 0915-0322—Revision

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than March 30, 2026.

ADDRESSES: Submit your comments to paperwork@hrsa.gov or mail the HRSA Information Collection Clearance Officer, Room 13N82, 5600 Fishers Lane, Rockville, Maryland 20857.

FOR FURTHER INFORMATION CONTACT: To request more information on the proposed project or to obtain a copy of the data collection plans and draft instruments, email paperwork@hrsa.gov or call Samantha Miller, the HRSA Information Collection Clearance Officer, at (301) 443-3983.

SUPPLEMENTARY INFORMATION: When submitting comments or requesting information, please include the ICR title for reference.

Information Collection Request Title: Data Collection Tool for State Offices of Rural Health Grant Program, OMB No. 0915-0322—Revision.

Abstract: HRSA is requesting OMB approval to continue use of a Technical Assistance (TA) Data Form for the State Offices of Rural Health (SORH) Grant program established by section 338J of the Public Health Service Act (42 U.S.C. 254r). In its authorizing language (sec. 711 of the Social Security Act [42 U.S.C. 912]), Congress charged the Federal Office of Rural Health Policy (FORHP) with administering grants, cooperative agreements, and contracts to provide TA and other activities as necessary to support activities related to improving health care in rural areas. The mission of FORHP is to sustain and improve access to quality health care services for rural communities. This electronic form is used to collect information from SORH grantees on the amount of direct TA they provide to clients within their state.

Need and Proposed Use of Information: FORHP seeks to continue gathering information from grantees on their efforts to provide TA to clients within their state. SORH grantees submit a TA Report that includes: (1) the total number of TA encounters provided directly by the grantee and (2) the total number of unduplicated clients that received direct TA from the grantee. These measures will continue in these three categories: (1) information disseminated, (2) information created, and (3) collaborative efforts by (a) topic area and (b) type of audience. These measures are used to obtain an accurate depiction of the breadth of SORH work, based on recommendations from the grantees. Submission of the TTA Report is submitted via FORHP's Data Collection Platform system no later than 60 days after the end of each 12-month budget period.

Grant dollars are awarded annually; therefore, this information is needed annually by the program to measure effective use of grant dollars consistently among all the grantees.

Likely Respondents: Fifty SORH award recipients.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Instrument name | Number of respondents | Number of responses per respondent | Total responses | Average burden per response (in hours) | Total burden hours
Technical Assistance Report | 50 | 1 | 50 | 13.5 | 675
Total | 50 |  | 50 |  | 675

HRSA specifically requests comments on (1) the necessity and utility of the proposed information collection for the proper performance of the agency's functions; (2) the accuracy of the estimated burden; (3) ways to enhance the quality, utility, and clarity of the information to be collected; and (4) the use of automated collection techniques or other forms of information technology to minimize the information collection burden.

Maria G. Button,
Director, Executive Secretariat.

[FR Doc. 2026-01763 Filed 1-28-26; 8:45 am]

BILLING CODE 4165-15-P